DEPARTMENT OF TRANSPORTATION

Federal Aviation Administration

14 CFR Part 71

[Docket No. FAA-2003-16760; Airspace Docket No. 03-ACE-97]

Modification of Class E Airspace; Colby, KS

AGENCY: Federal Aviation Administration (FAA), DOT.

ACTION: Direct final rule; correction; and confirmation of effective date.

SUMMARY: This document contains a correction to a direct final rule and confirms the effective date of the direct final rule which revises Class E airspace at Colby, KS.

DATES: 0901 UTC, April 15, 2004.

FOR FURTHER INFORMATION CONTACT: Kathy Randolph, Air Traffic Division, Airspace Branch, ACE-520C, DOT Regional Headdquarters Building, Federal Aviation Administration, 901 Locust, Kansas City, MO 64106; telephone: (816) 329-2525.

SUPPLEMENTARY INFORMATION:

History

Federal Register Document 04-492, published on Monday, January 12, 2004, (69 FR 1670) modified Class E airspace at Colby, KS. The modification enlarged the controlled airspace area around Shalz Field to provide proper protection of diverse departures, deleted the extension of controlled airspace and brought the Colby, KS Class E airspace area legal description into compliance with FAA Order 7400.2E, Procedures for Handling Airspace Matters. However, Shalz Field was incorrectly spelled as Shaltz Field in the Colby, KS Class E airspace area legal description as published.

Accordingly, pursuant to the authority delegated to me, the Colby, KS Class E airspace, as published in the Federal Register on Monday, January 12, 2004, (69 FR 1670) [FR Doc. 04-492] is corrected as follows:

§ 71.1 [Corrected]

On page 1670, Column 2, fourth line from the bottom; Column 3, fourth, ninth and twenty-fifth lines from the bottom; and on page 1671, Column 2, second line from bottom, change “Shaltz Field” to read “Shalz Field.”

The FAA uses the direct final rulemaking procedure for a non-controversial rule where the FAA believes that there will be no adverse public comment. This direct final rule advised the public that no adverse comments were anticipated, and that unless a written adverse comment, or a written notice of intent to submit such an adverse comment, were received within the comment period, the regulation would become effective on April 15, 2004. No adverse comments were received, and thus this notice confirms that this direct final rule will become effective on that date.

Issued in Kansas City, MO, on February 26, 2004.
Paul J. Sheridan,
Acting Manager, Air Traffic Division, Central Region.

[FR Doc. 04-5172 Filed 3-5-04; 8:45 am]

BILLING CODE 4910-13-M